DEPARTMENT OF HOMELAND SECURITY

Agency Information Collection Activities: Generic Clearance for the Collection of Certain Information on Immigration and Foreign Travel Forms

AGENCY: Department of Homeland Security (DHS).

ACTION: 30-Day notice and request for comments; new collection, 1601-NEW.

SUMMARY: The Department of Homeland Security (DHS) invites the general public and other Federal agencies to comment upon this proposed new collection of information. In accordance with the Paperwork Reduction Act of 1995, the information collection notice is published in the Federal Register to obtain comments regarding proposed modifications to certain DHS immigration and foreign travel forms. This collection of information is necessary to comply with Section 5 of the Executive Order (E.O.) 13780, “Protecting the Nation from Foreign Terrorist Entry into the United States” to establish screening and vetting standards and procedures to enable DHS to assess an alien's eligibility to travel to or be admitted to the United States or to receive an immigration-related benefit from DHS. This data collection also is used to validate an applicant's identity information and to determine whether such travel or grant of a benefit poses a law enforcement or national security risk to the United States. DHS previously published this information collection request (ICR) in the Federal Register on Wednesday, September 4, 2019 for a 60-day public comment period. Two (2) comments were received by DHS. The purpose of this notice is to allow additional 30-days for public comments.

DATES: Comments are encouraged and will be accepted until March 11, 2020. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to dhsdeskofficer@omb.eop.gov.

SUPPLEMENTARY INFORMATION:

Background

Executive Order (E.O.) 13780, “Protecting the Nation from Foreign Terrorist Entry into the United States” requires the implementation of uniform vetting standards and the proper collection of all information necessary for a rigorous evaluation of all grounds of inadmissibility or bases for the denial of immigration-related benefits. See 82 FR 13209 (Mar. 9, 2017). The E.O. requires the Department of Homeland Security (DHS) to collect standard data on immigration and foreign traveler forms and/or information collection systems. This data will be collected from certain populations on applications for entrance into the United States or immigration-related benefits and is necessary for identity verification, vetting and national security screening and inspection conducted by DHS.

This collection of information is necessary to comply with Section 5 of the E.O. to establish screening and vetting standards and procedures to enable DHS to assess an alien's eligibility to travel to or be admitted to the United States or to receive an immigration-related benefit from DHS. This data collection also is used to validate an applicant's identity information and to determine whether such travel or grant of a benefit poses a law enforcement or national security risk to the United States.

DHS will collect biographic information on immigration and foreign traveler information collection instruments and systems. DHS will update its forms and systems to collect information from individuals who seek admissibility or other benefits when that information is not already collected.

New Information To Be Collected

U.S. Government departments and agencies involved in screening and vetting, to include DHS, identified 15 data elements that would constitute a new baseline threshold of data to be collected for identity verification and national security vetting. For DHS, these data elements will be added to certain immigration benefit request or traveler forms where the information was not already collected. The 15 core data elements are as follows:

The following six (6) data elements are biographic identifiers used to confirm both a subject's identity as it relates to the submitted application and to DHS historic records. These biographic identifiers are also used internally by U.S. Customs and Border Protection (CBP) and U.S. Citizenship and Immigration Services (USCIS) and screening partners to confirm or disprove an association between an applicant and information of interest and the strength of that association in the context of the underlying information.

1. Name

2. Sex/Gender

3. Date of Birth

4. City/Region and Country of Birth

5. Country/Countries of Citizenship

6. Country of Residence

The following data element is a unique numeric identifier issued to a single individual that DHS uses to confirm both a person's identity and for DHS records. It is also used internally by CBP, USCIS, and screening partners to find, confirm, or disprove an association between an applicant, the strength of that association, or to provide other information about the person that may be important in the adjudication. Applicants will be asked to provide current passport/travel/national identity document information, country of issuance; issue date and expiration date, as applicable. Other DHS forms request more information on passports or travel documents to include expired documents and passports containing a U.S. visa. The questions related to passport information requested depend on benefit eligibility and national security needs. If additional information is needed for this data element, DHS will revise the applicable OMB approved information collection under the form's control number and not add the additional questions using this generic approval.

7. Passport/Travel Document or National ID

1. Country of issuance

2. Issue date

3. Expiration date

The following eight (8) data elements are used to provide official correspondence from CBP or USCIS to an applicant. They are also used as secondary data elements to confirm a subject's identity as it relates to the submitted application and to DHS historic records. They are also used internally by CBP, USCIS, and screening partners to confirm or disprove an association between an applicant and information of interest and the strength of that association in the context of the underlying information.

8. Telephone Number(s)

9. Email address(es)

10. U.S. Address: Residence or Destination city

11. U.S. Address: Residence or Destination state

12. Foreign Address city

13. Foreign Address state

14. U.S. Point of Contact Name, if applicant is located outside of the United States

15. U.S. Point of Contact Telephone Number, if applicant is located outside of the United States

Programs Affected, OMB Control Numbers and Legal Authorities for the Collections

DHS plans to collect the data elements for three programs/forms administered by U.S. Customs and Border Protection (CBP). The three CBP programs/forms, and the applicable statutory and regulatory authorities to collect the additional information are as follows:

• OMB No. 1651-0111—Electronic System for Travel Authorization (ESTA): Collection of data through this form is authorized by Section 711 of The Secure Travel and Counterterrorism Partnership Act of 2007 (part of the Implementing Recommendations of the 9/11 Commission Act of 2007, also known as the “9/11 Act,” Pub. L. 110-53). The authorities for the maintenance of this system are found in: Title IV of the Homeland Security Act of 2002, 6 U.S.C. 201 et seq., the Immigration and Nationality Act, as amended, including 8 U.S.C. 1187(a)(11) and (h)(3); 8 CFR part 217; the Travel Promotion Act of 2009, Public Law 111-145, 22 U.S.C. 2131.

• OMB No. 1651-0111—Form I-94W Nonimmigrant Visa Waiver Arrival/Departure Record: Collection of data through this form is authorized by 8 U.S.C. 1103, 1187 and 8 CFR 235.1, 264, and 1235.1.

• OMB No. 1651-0139—Electronic Visa Update System (EVUS): Collection of data through this form is authorized by INA section 104(a) (8 U.S.C. 1104(a)). The authorities for the maintenance of this system are found in: Title IV of the Homeland Security Act of 2002, 6. U.S.C. 201 et seq., the Immigration and National Act, as amended, including sections 103 (8 U.S.C. 1103), 214 (8 U.S.C. 1184), 215 (8 U.S.C. 1185), and 221 (8 U.S.C. 1201); 8 CFR part 2; the Travel Promotion Act of 2009, Public Law 111-145, 22 U.S.C. 2131; and 8 CFR parts 212, 214, 215, and 273.

DHS plans to collect the new data elements for nine programs administered by U.S. Citizenship and Immigration Services (USCIS). The nine USCIS programs, and the applicable statutory and regulatory authorities to collect the additional information area as follows:

USCIS has the following statutory and regulatory authorities to collect additional biographic data information on the following forms:

• OMB No. 1615-0052—Form N-400, Application for Naturalization: Collection of data through this form is authorized by INA section 337 [8 U.S.C. 1448]; 8 U.S.C. 1421; 8 CFR 316.4 and 8 CFR 316.10.

• OMB No. 1615-0013—Form I-131, Application for Travel Document: Collection of data through this form is authorized by INA sections 103, 208, 212, 223 and 244; 8 CFR 103.2(a) and (e); 8 CFR 208.6; 8 CFR 244.16; Section 303 of Public Law 107-173.

• OMB No. 1615-0017—Form I-192, Application for Advance Permission to Enter as a Nonimmigrant: Collection of data through this form is authorized by INA 212 [8 U.S.C. 1182].

• OMB No. 1615-0023—Form I-485, Application to Register Permanent Residence or Adjust status: Collection of data through this form is authorized by INA section 245, 8 U.S.C. 1255, Public Law 106-429, and section 902 of Public Law 105-277.

• OMB No. 1615-0067—Form I-589, Application for Asylum and for Withholding of Removal: Collection of data through this form is authorized by INA sections 101(a)(42), 208(a) and (b), and 241(b)(3) and 8 CFR 208.6 and 1208.6.

• OMB No. 1615-0068—Form I-590, Registration for Classification as Refugee: This information collection is authorized by INA section 207 (8 U.S.C. 1157) for a person who seeks refugee classification and resettlement in the United States. A refugee is defined in 8 U.S.C. 1101(a)(42) and Section 101(a)(42) of the Act.

• OMB No. 1615-0037—Form I-730, Refugee/Asylee Relative Petition: This information collection is authorized by section 207(c)(2), and 208(c) of the INA (8 U.S.C. 1157 and 1158) for an asylee or refugee to request accompanying or following-to-join benefits for his or her spouse and unmarried minor child(ren).

• OMB No. 1615-0038—Form I-751, Petition to Remove Conditions on Residence: Collection of data through this form is authorized by INA section 216, 8 U.S.C. 1186(a); 8 CFR part 216.

• OMB No. 1615-0045—Form I-829, Petition by Entrepreneur to Remove Conditions on Permanent Resident Status: Collection of data through this form is authorized by INA section 203(b)(5), 8 U.S.C. 1153, and INA section 216(a), 8 U.S.C. 1186(b)].

Applicant information is collected to maintain a record of persons applying for specific immigration and other travel benefits, and to determine whether these applicants are eligible to receive the benefits for which they are applying. The information provided through DHS forms is also analyzed—along with other information that the Secretary of Homeland Security determines is necessary, including information about other persons included on the DHS forms—against various security and law enforcement databases to identify those applicants who may pose a security risk to the United States. To obtain approval for a collection that meets the conditions of this generic clearance, a standardized form will be submitted to OMB along with supporting documentation (e.g., a copy of the updated application form). OMB will grant approval only if the agency demonstrates the collection of information complies with the specific circumstances laid out in this supporting statement.

Confidentiality

No assurance of confidentiality is provided. All data submitted under this collection will be handled in accordance with applicable U.S. laws and DHS policies regarding personally identifiable information.

• Public Law 107-347, “E-Government Act of 2002,” as amended, Section 208 [44 U.S.C. 3501 note]

• Title 5, United States Code (U.S.C.), Section 552a, “Records maintained on individuals” [The Privacy Act of 1974, as amended].

• Title 6, U.S.C., Section 142, “Privacy officer.”

• Title 44, U.S.C., Chapter 35, Subchapter II, “Information Security” [The Federal Information Security Modernization Act of 2014 (FISMA)].

• DHS Directive 047-01, “Privacy Policy and Compliance” (July 25, 2011).

• DHS Instruction 047-01-001, “Privacy Policy and Compliance” (July 25, 2011).

• Privacy Policy Guidance Memorandum 2008-01/Privacy Policy Directive 140-06, “The Fair Information Practice Principles: Framework for Privacy Policy at the Department of Homeland Security.” (December 29, 2008).

• Privacy Policy Guidance Memorandum 2017-01, DHS Privacy Policy Regarding Collection, Use, Retention, and Dissemination of Personally Identifiable Information. (April 25, 2017).

• Refugees and asylees are protected by the confidentiality provisions of 8 CFR 208.6; 8 U.S.C. 1103. Aliens in TPS status have the confidentiality protections described in 8 CFR 244.16; 8 U.S.C. 1254a(c)(6). There are no confidentiality assurances for other aliens applying for the benefit.

• The system of record notices associated with this information collection are:

○ DHS/USCIS/ICE/CBP-001 Alien File, Index, and National File Tracking System of Records, September 18, 2017, 82 FR 43556 (all USCIS forms).

○ DHS/USCIS-007 Benefits Information System, October 19, 2016, 81 FR 72069 (Forms N-400, I-131, I-192, I-485, I-590, I-730, I-751, I-829).

○ DHS/USCIS-010 Asylum Information and Pre-Screening System of Records November 30, 2015, 80 FR 74781 (Form I-589).

○ DHS/CBP-006 Automated Targeting System, May 22, 2012, 77 FR 30297 (Form I-192).

○ DHS/USCIS-017—Refugee Case Processing and Security Screening Information System of Records October 19, 2016, 81 FR 72075 (Forms I-730).

○ DHS/CBP Electronic Visa Update System (EVUS) System of Records, September 1, 2016, 81 FR 60371 (EVUS Form); Final Rule for Privacy Exemptions, November 25, 2016, 81 FR 85105.

○ DHS/CBP-009—Electronic System for Travel Authorization (ESTA), September 2, 2016, 81 FR 60713 (ESTA Form); Final Rule for Privacy Act Exemptions, August 31, 2009 74 FR 45069.

○ DHS/CBP-016—Nonimmigrant Information System March 13, 2015, 80 FR 13398 (Form I-94W).

○ DHS/USCIS-015—Electronic Immigration System-2 Account and Case Management System of Records April 5, 2013 78 FR 20673 (Form I-131).

This is a new generic clearance. This request will be submitted to the Office of Management and Budget, Office of Information and Regulatory Affairs for review and approval as required by the Paperwork Reduction Act. This new collection is to meet the intent of E.O. 13780 (Section 5) to establish screening and vetting standards to assess an alien's eligibility to travel to, be admitted to, or receive an immigration-related benefit from DHS. This information will be used to validate an applicant's identity and determine whether entry to the U.S. or an immigration benefit for an individual poses a law enforcement or national security risk to the United States.

DHS is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security DHS

Title: Generic Clearance for the Collection of Certain Information on Immigration and Foreign Travel Forms

OMB Number: 1601-NEW.

Frequency: On Occasion.

Affected Public: Individuals.

Number of Respondents: 30,069,230.

Estimated Time per Respondent: .401.

Total Burden Hours: 12,058,798.

Dated: January 29, 2020.
Melissa Bruce,
Executive Director, Business Management Office.

[FR Doc. 2020-02613 Filed 2-7-20; 8:45 am]

BILLING CODE 9112-FL-P